DEPARTMENT OF JUSTICE

Drug Enforcement Administration

George Minor Meredith, II, M.D. Revocation of Registration

On April 22, 2002, the Deputy Assistant Administrator, Office of Diversion Control, Drug Enforcement Administration (DEA), issued an Order to Show Cause to George Minor Meredith, M.D. (Respondent) of Great Bend, Kansas, notifying him of an opportunity to show cause as to why DEA should not revoke his DEA Certificate of Registration, AM8703995 under 21 U.S.C. 824(a), and deny any pending applications for renewal or modification of that registration. As a basis for revocation, the Order to Show Cause alleged that on December 8, 2001, the Board of Healing Arts of the State of Kansas (Board) revoked Respondent's medical license. Accordingly, the Respondent is not currently authorized to handle controlled substances in Kansas, the state in which he practices. The order also notified Respondent that should no request for a hearing be filed within 30 days, his hearing right would be deemed waived.

The Order to Show Cause was sent by certified mail to Respondent at his registered location in Grand Bend, Kansas. DEA received a signed receipt indicating that the Order to Show Cause was received by Respondent on or around May 2, 2002. The receipt noted that Respondent has changed his address to Virginia Beach, VA.

Respondent requested a hearing. On July 31, 2002, DEA filed a Motion for Summary Disposition and Request for Stay of the Filing of Prehearing Statement. In its Motion, the Government alleged that Respondent lacks authority to handle controlled substances in Kansas, the state in which he currently maintains his DEA registration. The Government further stated that Respondent's state medical license had been revoked by the Board on December 10, 2001, and appended a copy of the Board's Final Order to the Motion. The Final Order indicated that Respondent's license had been suspended on June 11, 2001, and remained suspended up to the time the Final Order was executed.

The Administrative Law Judge Gail A. Randall (ALJ) assigned to this case issued an Order on August 2, 2002, affording Respondent an opportunity to file his opposition to the Government's motion by August 16, 2002. Respondent filed a “Prehearing Statement,” on August 23, 2002, apparently in response to the ALJ's Order. Even though the filing was received past the deadline set forth in the ALJ's order, the ALJ accepted the document into the record. In his filing, Respondent presented no evidence in opposition to the Government's contention that he lacked state authority to practice medicine or to handle controlled substances in Kansas.

On September 16, 2002, the ALJ certified and transmitted the record in this matter to the Acting Administrator, along with her Opinion and Recommended Decision. In her Decision, the ALJ granted DEA's Motion for Summary Disposition and recommended that Dr. Meredith's DEA registration be revoked.

The Acting Administrator has carefully reviewed the entire record in this matter, as defined above, and hereby issues this final order as prescribed by 21 CFR 1301.43 and 21 CFR 1301.46 based upon the following findings and conclusions. The Acting Administrator adopts the Opinion and Recommended Decision of the ALJ, and his adoption is in no manner diminished by any recitation of facts, issues and conclusions, herein, or of any failure to mention a matter of fact or law.

The Acting Administrator finds that Respondent possessed DEA Certificate of Registration AM8703995. The Acting Administrator further finds that an investigation by DEA revealed that on December 8, 2001, the Kansas Board of Healing Arts issued a Final Order revoking Respondent's license to practice medicine in Kansas.

DEA does not have statutory authority under the Controlled Substances Act to issue or maintain a registration if the applicant or registrant is without state authority to handle controlled substances in the state in which he conducts business. See 21 U.S.C. 802(21), 823(f) and 824(a)(3). This prerequisite has been consistently upheld. See Muttaiya Darmarajeh, M.D., 66 FR 52936 (2001); Damonick A. Ricci, M.D., 58 FR 51104 (1993); Bobby Watts, M.D., 53 FR 11919 (1988).

Here, it is clear that Respondent is not licensed to handle controlled substances in the State of Kansas where he is registered with DEA. Therefore, he is not entitled to a DEA registration in that state.

Accordingly, the Acting Administrator of the Drug Enforcement Administration, pursuant to the authority vested in him by 21 U.S.C. 823 and 824 and 28 CFR 0.100(b) and 0.104, hereby orders that DEA Certificate of Registration AM8703995, issued to George Minor Meredith, M.D. be, and it hereby is, revoked. The Acting Administrator further orders that any pending applications for renewal or modification of such registration be, and they hereby are, denied. This order is effective September 2, 2003.

William B. Simpkins,
Acting Administrator.

[FR Doc. 03-19631 Filed 7-31-03; 8:45 am]

BILLING CODE 4410-09-M